DEPARTMENT OF JUSTICE

Notice of Lodging of Proposed Consent Decree Under the Comprehensive Environmental Response, Compensation, and Liability Act

On January 22, 2013, the Department of Justice lodged a proposed Consent Decree in the United States District Court for the Southern District of Texas in the lawsuit entitled, United States and State of Texas v. GB Biosciences Corp., et al., Civil Action No. 4:13-CV-00151.

In this action the United States, on behalf of the National Oceanic and Atmospheric Administration (“NOAA”) and the U.S. Department of Interior (“DOI”), as federal trustees, together with the State of Texas, seeks natural resource damages pursuant to Section 107(a) of the Comprehensive Environmental Response, Compensation, and Liability Act (“CERCLA”), in connection with the Greens Bayou Site located in Houston, Texas (the “Site”).

The United States and the State have negotiated a consent decree with GB Biosciences Corp., ISK Magnetics, Inc., and Occidental Chemical Corp. (collectively “Settlors”) to resolve the CERCLA claims, as well as the state law claims. Under the Consent Decree, the Settlors agree to reimburse the United States and the State for natural resource damage assessment costs ($31,060.00 to the federal trustees), to complete two restoration projects selected by the trustees valued at approximately $800,000.00, and to reimburse the trustees for any further monitoring or corrective action obligations after completion of construction of the restoration project. The Settlement includes a covenant not to sue under Section 107(a) of CERCLA.

The publication of this notice opens a period for public comment on the consent decree. Comments should be addressed to the Assistant Attorney General, Environment and Natural Resources Division, and should refer to United States and State of Texas v. GB Biosciences Corp., et al., D.J. Ref. No. 90-5-1-1-09071. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611, Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $54.75 (25 cents per page reproduction cost) payable to the United States Treasury. For a paper copy without the exhibits, the cost is $17.50.

Maureen Katz,
Assistant Section Chief, Environmental Enforcement Section, Environment and Natural Resources Division.

[FR Doc. 2013-01761 Filed 1-28-13; 8:45 am]

BILLING CODE 4410-15-P